DEPARTMENT OF COMMERCE

International Trade Administration

A-427-818

Notice of Extension of Time Limit for Preliminary Results of Administrative Review: Low Enriched Uranium from France

AGENCY: Import Administration, International Trade Administration, U.S. Department of Commerce.

SUMMARY: Pursuant to section 751(a)(3)(A)of the Tariff Act of 1930, as amended, (the Act), the Department of Commerce (the Department) is extending the time limit for the preliminary results in the antidumping duty administrative review of low enriched uranium from France until no later than February 28, 2005.

EFFECTIVE DATE: October 28, 2004.

FOR FURTHER INFORMATION CONTACT: Elfi Blum or Myrna Lobo at (202) 482-0197 or (202) 482-2371, respectively; Office of Antidumping/Countervailing Duty Operations, Office VI, Import Administration, International Trade Administration, U.S. Department of Commerce, 14th Street and Constitution Avenue, NW, Washington, DC 20230.

Statutory Time Limits

Section 751(a)(3)(A)of the Act and section 351.213(h)(1) of the Department's regulations require the Department to issue the preliminary results of an administrative review within 245 days after the last day of the anniversary month of an order for which a review is requested. However, if it is not practicable to complete the preliminary results within the prescribed time period, section 751(a)(3)(A) of the Act, and section 351.213(h)(2) of the Department's regulations, allow the Department to extend the deadline to a maximum of 365 days after the last day of the anniversary month of an order for which a review is requested.

Background

On March 26, 2004, the Department initiated an administrative review of the antidumping duty order on low enriched uranium from France in order to determine whether subject merchandise was sold into the United States at less-than-fair-value. See Notice of Initiation of Antidumping and Countervailing Duty Administrative Reviews and Requests for Revocation in Part (69 FR 15788). The period of review (POR) is February 1, 2003 through January 31, 2004.

Extension of Time Limits for Preliminary Results

Due to the complexity of the cost of production issues in this case, including a major input cost allegation by petitioners, the Department finds that it is not practicable to complete the preliminary results within the time limits mandated by section 751(a)(3)(A) of the Act and section 351.213(h)(1) of the Department's regulations. Consequently, in accordance with section 751(a)(3)(A) of the Act and section 351.213(h)(2) of the Department's regulations, the Department is extending the time limit for the completion of the preliminary results, from October 31, 2004 until no later than February 28, 2005. This notice is published pursuant to sections 751(a)(1) and 777(i)(1) of the Act.

Dated: October 21, 2004.
Jeffrey A. May,
Deputy Assistant Secretary for Import Administration.

[FR Doc. E4-2899 Filed 10-27-04; 8:45 am]

BILLING CODE 3510-DS-S